DEPARTMENT OF ENERGY

Federal Energy Regulatory Commission

Combined Notice of Filings #1

Take notice that the Commission received the following electric rate filings:

Docket Numbers: ER12-1470-016; ER10-3026-014; ER16-1833-011.

Applicants: Sempra Gas & Power Marketing, LLC, Termoelectrica U.S., LLC, Energia Sierra Juarez U.S., LLC.

Description: Notice of Non-Material Change in Status of Energia Sierra Juarez U.S., LLC, et al.

Filed Date: 7/17/24.

Accession Number: 20240717-5177.

Comment Date: 5 p.m. ET 8/7/24.

Docket Numbers: ER24-1792-001.

Applicants: Cald BESS LLC.

Description: Tariff Amendment: Response to Deficiency Letter to be effective 4/19/2024.

Filed Date: 7/17/24.

Accession Number: 20240717-5153.

Comment Date: 5 p.m. ET 8/7/24.

Docket Numbers: ER24-1914-003.

Applicants: Idaho Power Company.

Description: Tariff Amendment: Deficiency Filing re ER24-1914 to be effective 1/4/2024.

Filed Date: 7/18/24.

Accession Number: 20240718-5124.

Comment Date: 5 p.m. ET 8/8/24.

Docket Numbers: ER24-1917-001.

Applicants: Idaho Power Company.

Description: Tariff Amendment: Deficiency Filing re ER24-1917 to be effective 1/29/2024.

Filed Date: 7/18/24.

Accession Number: 20240718-5127.

Comment Date: 5 p.m. ET 8/8/24.

Docket Numbers: ER24-1918-001.

Applicants: Idaho Power Company.

Description: Tariff Amendment: Deficiency Filing re ER24-1918 to be effective 2/1/2024.

Filed Date: 7/18/24.

Accession Number: 20240718-5129.

Comment Date: 5 p.m. ET 8/8/24.

Docket Numbers: ER24-1919-001.

Applicants: Idaho Power Company.

Description: Tariff Amendment: Deficiency Filing re ER24-1919 to be effective 3/7/2024.

Filed Date: 7/18/24.

Accession Number: 20240718-5133.

Comment Date: 5 p.m. ET 8/8/24.

Docket Numbers: ER24-1922-001.

Applicants: Idaho Power Company.

Description: Tariff Amendment: Deficiency Filing re ER24-1922 to be effective 3/13/2024.

Filed Date: 7/18/24.

Accession Number: 20240718-5137.

Comment Date: 5 p.m. ET 8/8/24.

Docket Numbers: ER24-1923-001.

Applicants: Idaho Power Company.

Description: Tariff Amendment: Deficiency Filing re ER24-1923 to be effective 4/4/2024.

Filed Date: 7/18/24.

Accession Number: 20240718-5140.

Comment Date: 5 p.m. ET 8/8/24.

Docket Numbers: ER24-2183-000.

Applicants: Big Rock ESS Assets LLC.

Description: Report Filing: Big Rock ESS Asset Supplemental Filing to be effective N/A.

Filed Date: 7/17/24.

Accession Number: 20240717-5120.

Comment Date: 5 p.m. ET 7/29/24.

Docket Numbers: ER24-2540-000.

Applicants: PJM Interconnection, L.L.C.

Description: 205(d) Rate Filing: Amendment to ISA, SA No. 6571; Queue No. AE2-104/AF2-110 (amend) to be effective 9/17/2024.

Filed Date: 7/18/24.

Accession Number: 20240718-5033.

Comment Date: 5 p.m. ET 8/8/24.

Docket Numbers: ER24-2541-000.

Applicants: Mid-Atlantic Interstate Transmission, LLC, PJM Interconnection, L.L.C.

Description: 205(d) Rate Filing: Mid-Atlantic Interstate Transmission, LLC submits tariff filing per 35.13(a)(2)(iii: MAIT submits one Construction Agreement SA No. 6625 to be effective 9/17/2024.

Filed Date: 7/18/24.

Accession Number: 20240718-5041.

Comment Date: 5 p.m. ET 8/8/24.

Docket Numbers: ER24-2542-000.

Applicants: Arizona Public Service Company.

Description: 205(d) Rate Filing: Service Agreement No. 423, UES Grandview LLC E&P Agreement to be effective 6/21/2024.

Filed Date: 7/18/24.

Accession Number: 20240718-5088.

Comment Date: 5 p.m. ET 8/8/24.

Docket Numbers: ER24-2543-000.

Applicants: Arizona Public Service Company.

Description: 205(d) Rate Filing: Service Agreement No. 422, LGIA w/Elisabeth Solar to be effective 6/18/2024.

Filed Date: 7/18/24.

Accession Number: 20240718-5135.

Comment Date: 5 p.m. ET 8/8/24.

Docket Numbers: ER24-2544-000.

Applicants: PJM Interconnection, L.L.C.

Description: 205(d) Rate Filing: Notice of Cancellation of ISA No. 5364, AB2-160 to be effective 9/17/2024.

Filed Date: 7/18/24.

Accession Number: 20240718-5142.

Comment Date: 5 p.m. ET 8/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 18, 2024.
Debbie-Anne A. Reese,
Acting Secretary.

[FR Doc. 2024-16295 Filed 7-24-24; 8:45 am]

BILLING CODE 6717-01-P